DEPARTMENT OF TRANSPORTATION

National Highway Traffic Safety Administration

[Docket No. NHTSA-2015-0036; Notice 1]

Graco Children's Products, Inc., Receipt of Petition for Decision of Inconsequential Noncompliance

AGENCY: National Highway Traffic Safety Administration (NHTSA), Department of Transportation (DOT).

ACTION: Receipt of petition.

SUMMARY: Graco Children's Products, Inc., (Graco) has determined that certain Graco child restraints do not fully comply with paragraph S5.5.2(g)(1)(iii) of Federal Motor Vehicle Safety Standard (FMVSS) No. 213, Child Restraint Systems. Graco has filed an appropriate report dated March 13, 2015, pursuant to 49 CFR part 573, Defect and Noncompliance Responsibility and Reports.

DATES: The closing date for comments on the petition is July 6, 2015.

ADDRESSES: Interested persons are invited to submit written data, views, and arguments on this petition. Comments must refer to the docket and notice number cited at the beginning of this notice and submitted by any of the following methods:

• Mail: Send comments by mail addressed to: U.S. Department of Transportation, Docket Operations,M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Graco's Petition: Pursuant to 49 U.S.C. 30118(d) and 30120(h) (see implementing rule at 49 CFR part 556), Graco submitted a petition for an exemption from the notification and remedy requirements of 49 U.S.C. Chapter 301 on the basis that this noncompliance is inconsequential to motor vehicle safety.

This notice of receipt of Graco's petition is published under 49 U.S.C. 30118 and 30120 and does not represent any agency decision or other exercise of judgement concerning the merits of the petition.

II. Child Restraints Involved: Affected are approximately 31,838 Graco ComportSport, Graco Classic Ride, and Graco Ready Ride child restraints manufactured between March 1, 2014 and February 28, 2015.

III. Noncompliance: Graco explains that the noncompliance is due to a labeling issue. The labels on the subject child restraints do not contain the instructional statement required by paragraph S5.5.2(g)(1)(iii) of FMVSS No. 213.

IV. Rule Text: Paragraph S5.5.2(g)(1)(iii) of FMVSS No. 213 requires in pertinent part:

S5.5.2 The information specified in paragraphs (a) through (m) of this section shall be stated in the English language and lettered in letters and numbers that are not smaller than 10 point type. Unless otherwise specified, the information shall be labeled on a white background with black text. Unless written in all capitals, the information shall be stated in sentence capitalization. . . .

(g) The specified statements specified in paragraphs (1) and (2)

(1) A heading as specified in S5.5.2(k)(3)(i), with the statement “WARNING! DEATH or SERIOUS INJURY can occur,” capitalized as written and followed by bulleted statements in the following order . . .

(iii) Follow all instructions on this child restraint and in the written instructions located (insert storage location on the restraint for the manufacturer's installation instruction booklet or sheet).

V. Summary of Graco's Analyses: Graco stated its belief that the subject noncompliance is inconsequential to motor vehicle safety for the following reasons:

(A) Graco observed that many child seats are sold with their instruction manual placed in an appropriate long-term storage location. Graco believes that in such cases the statement required by paragraph S5.5.2(g)(1)(iii) of FMVSS No. 213 is intended to remind consumers that the child restraint was sold with instructions and to inform them where to find those instructions. Because the subject child restraints are sold with the instruction manual in a plastic pouch on the child restraint's harness strap, Graco believes that the original consumer must initially interact with the instructions in order to install the child seat, therefore achieving the same result intended by the subject label statement. Being thereby made aware of the instructions, the consumer can then place the instructions directly into the storage location for future access.

(B) In a case of subsequent users, Graco believes the location of a properly stored manual, near the top of the seat back, is readily visible and obvious due to the size, shape and color contrast between the instruction manual and the seat back.

(C) Graco considers the risk of the original consumer not placing the instruction manual into the proper storage location to be no different from the risk where a subsequent user does not place the instructions into the storage location after use.

(D) Graco further notes that installation instructions are also readily available on Graco's Web site or by calling its customer hotline.

In summation, Graco believes that the described noncompliance of the subject child restraints is inconsequential to motor vehicle safety, and that its petition, to exempt Graco from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject child restraints that Graco no longer controlled at the time it determined that the noncompliance existed. However, any decision on this petition does not relieve child restraint distributors and dealers of the prohibitions on the sale, offer for sale, or introduction or delivery for introduction into interstate commerce of the noncompliant child restraints under their control after Graco notified them that the subject noncompliance existed.

Authority: 49 U.S.C. 30118, 30120: Delegations of authority at 49 CFR 1.95 and 501.8.

Jeffrey Giuseppe,
Director, Office of Vehicle Safety Compliance.

[FR Doc. 2015-13599 Filed 6-3-15; 8:45 am]

BILLING CODE 4910-59-P